DEPARTMENT OF STATE

[Public Notice 6995]

30-Day Notice of Proposed Information Collection: Forms DS-2053, DS-2054; Medical Examination for Immigrant or Refugee Applicant; DS-3030, Chest X-Ray and Classification Worksheet; OMB Control Number 1405-0113

ACTION: Notice of request for public comment and submission to OMB of proposed collection of information.

SUMMARY: The Department of State has submitted the following information collection request to the Office of Management and Budget (OMB) for approval in accordance with the Paperwork Reduction Act of 1995.

• Title of Information Collection: Medical Examination for Immigrant or Refugee Applicant.

• OMB Control Number: 1405-0113.

• Type of Request: Revision of a Currently Approved Collection.

• Originating Office: Bureau of Consular Affairs, Office of Visa Services (CA/VO).

• Form Number: DS-2053, DS-2054, DS-3030.

• Respondents: Immigrant visa and refugee applicants.

• Estimated Number of Respondents: 630,000 per year.

• Estimated Number of Responses: 630,000 per year.

• Average Hours per Response: 1 hour.

• Total Estimated Burden: 630,000 hours annually.

• Frequency: Once per application.

• Obligation to Respond: Required to Obtain Benefit.

DATES: Submit comments to the Office of Management and Budget (OMB) for up to 30 days from May 10, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Lauren Prosnik of the Office of Visa Services, U.S. Department of State, 2401 E Street, NW, L-603, Washington, DC 20522, who may be reached at (202) 663-2951.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection:

INA Section 221(d) requires that prior to the issuance of an immigrant visa the applicant undergo a physical and mental examination. INA Section 412(b)(4)(B) requires that the United States Government “provide for the identification of refugees who have been determined to have medical conditions affecting the public health and requiring treatment.” Form DS-2053, Medical Examination for Immigrant or Refugee Applicant (1991 Technical Instructions); Form DS-2054, Medical Examination for Immigrant or Refugee Applicant (2007 Technical Instructions); and DS-3030, Chest X-Ray and Classification Worksheet (2007 Technical Instructions) are designed to record the results of the medical examination. A panel physician performs the medical examination of the applicant and completes the forms.

Methodology:

The medical forms are sent to the applicant in the applicant's package. The applicant takes the forms to the panel physician to use during the medical examination. The panel physician completes the medical examination and fills out the forms. The forms are then submitted in hard copy to the consular officer for processing.

Dated: April 28, 2010.
David T. Donahue,
Deputy Assistant Secretary, Bureau of Consular Affairs, Department of State.

[FR Doc. 2010-11002 Filed 5-7-10; 8:45 am]

BILLING CODE 4710-06-P